ENVIRONMENTAL PROTECTION AGENCY

[CERCLA-02-2024-2012; FRL-12208-01-R2]

Proposed CERCLA Cost Recovery Settlement for the Lake Erie Smelting Corp. Superfund Site, Buffalo, Erie County, New York

AGENCY: Environmental Protection Agency (EPA).

ACTION: Notice; request for public comment.

SUMMARY: In accordance with section 122(h) of the Comprehensive Environmental Response, Compensation, and Liability Act of 1980, (“CERCLA”), notice is hereby given by the U.S. Environmental Protection Agency (EPA), Region 2, of a proposed cost recovery settlement agreement (Settlement) pursuant to CERCLA with the City of Buffalo and Metalico Buffalo, Inc. (Settling Parties) relating to the Lake Erie Smelting Corp. Superfund Site (Site), located in Buffalo, Erie County, New York.

DATES: Comments must be submitted on or before September 30, 2024.

ADDRESSES: Requests for copies of the proposed Settlement and submission of comments must be via electronic mail. Comments should reference the Lake Erie Smelting Corp. Superfund Site, Buffalo, Erie County, New York, Index No. CERCLA-02-2024-2012. For those unable to communicate via electronic mail, please contact the EPA employee identified below.

FOR FURTHER INFORMATION CONTACT: Andrea Leshak, Attorney, Office of Regional Counsel, New York/Caribbean Superfund Branch, U.S. Environmental Protection Agency, 290 Broadway, 17th Floor, New York, NY 10007-1866. Email: leshak.andrea@epa.gov. Telephone: 212-637-3197.

SUPPLEMENTARY INFORMATION: The Settling Parties will pay to the United States $100,000.00 for past costs incurred by EPA at the Site. The Settlement includes a covenant by EPA not to sue or to take administrative action against the Settling Parties pursuant to section 107(a) of CERCLA, 42 U.S.C. 9607(a), with regard to EPA's past response costs as provided in the Settlement. For thirty (30) days following the date of publication of this notice, EPA will receive written comments relating to the proposed Settlement. EPA will consider all comments received and may modify or withdraw its consent to the proposed Settlement if comments received disclose facts or considerations that indicate that the proposed Settlement is inappropriate, improper, or inadequate.

EPA's response to any comments received will be available for public inspection at EPA Region 2, 290 Broadway, New York, New York 10007-1866.

Pasquale Evangelista,
Director, Superfund & Emergency Management Division, U.S. Environmental Protection Agency Region 2.

[FR Doc. 2024-19580 Filed 8-29-24; 8:45 am]

BILLING CODE 6560-50-P